DEPARTMENT OF TRANSPORTATION

Federal Aviation Administration

Public Notice for Release of ADAP Property

AGENCY: Federal Aviation Administration (FAA), DOT.

ACTION: Notice.

SUMMARY: Notice is being given that the FAA is considering a request from the Port of Portland, Oregon to waive the Airport Development Aid Program property requirements for approximately 3 acres of airport property located at Hillsboro Airport, Hillsboro, Oregon.

FOR FURTHER INFORMATION CONTACT: Tim House, (206) 231-4248.

SUPPLEMENTARY INFORMATION: The subject property is located south of the airport and separated from the aeronautical area by both NE Cornell Rd. and NE Veterans Dr. This release will allow the Port of Portland to sell 3.0 acres. The proceeds generated from the proposed release will be utilized for maintenance and capital improvements that support aeronautical activities. The Port of Portland, Oregon will receive not less than fair market value for the property. It has been determined through study that the subject 3.0 acres will not be needed for aeronautical purposes.

Dated: June 18, 2024.
Warren D. Ferrell,
Manager, Seattle Airports District Office.

[FR Doc. 2024-14007 Filed 6-27-24; 8:45 am]

BILLING CODE 4910-13-P